DEPARTMENT OF ENERGY

Federal Energy Regulatory Commission

[Project No. 1256-031]

Loup River Public Power District; Notice of Availability of Final Environmental Assessment

In accordance with the National Environmental Policy Act of 1969 and the Federal Energy Regulatory Commission (Commission) regulations, 18 CFR part 380 (Order No. 486, 52 FR 47897), the Office of Energy Projects has reviewed the application for a new license for the Loup River Hydroelectric Project (FERC Project No. 1256), located on the Loup River in Nance and Platte Counties, Nebraska, and prepared a final environmental assessment (EA).

In the final EA, Commission staff analyzes the potential environmental effects of licensing the project, and concludes that issuing a new license for the project, with appropriate environmental measures, would not constitute a major federal action significantly affecting the quality of the human environment.

A copy of the final EA is available for review at the Commission in the Public Reference Room or may be viewed on the Commission's Web site at www.ferc.gov using the “eLibrary” link. Enter the docket number, excluding the last three digits, in the docket number field to access the document. For assistance, contact FERC Online Support at FERCOnlineSupport@ferc.gov or toll-free at 1-866-208-3676, or for TTY, 202-502-8659.

You may also register online at www.ferc.gov/docs-filing/esubscription.asp to be notified via email of new filings and issuances related to this or other pending projects. For assistance, contact FERC Online Support.

For further information, please contact Chelsea Hudock at (202) 502-8448 or by email at chelsea.hudock@ferc.gov or Lee Emery by telephone at (202) 502-8379 or by email at lee.emery@ferc.gov.

Dated: July 5, 2016.
Kimberly D. Bose,
Secretary.

[FR Doc. 2016-16396 Filed 7-11-16; 8:45 am]

BILLING CODE 6717-01-P